DEPARTMENT OF THE INTERIOR

Bureau of Indian Affairs

25 CFR Part 292

RIN 1076-AD93

Gaming on Trust Lands Acquired After October 17, 1988; Correction

AGENCY: Bureau of Indian Affairs, Interior.

ACTION: Proposed rule: Reopening of comment period; correction.

SUMMARY: This document corrects a discrepancy in the reopening of the comment period on a proposed rule concerning gaming on trust lands acquired after October 17, 1988, published in the Federal Register on December 27, 2001.

DATES: Comments must be received on or before March 27, 2002.

ADDRESSES: Mail comments to George Skibine, Director, Office of Indian Gaming Management, Bureau of Indian Affairs, 1849 C Street, NW., MS2070-MIB, Washington, DC 20240. Comments may be hand delivered to the same address from 9 a.m. to 4 p.m. Monday through Friday or sent by facsimile to 202-273-3153.

FOR FURTHER INFORMATION CONTACT: Nancy Pierskalla, Indian Gaming Management Staff Office, at 202-219-4066.

SUPPLEMENTARY INFORMATION: On Thursday, December 27, 2001, the Bureau of Indian Affairs published a document reopening the comment period on a proposed rule, 66 FR 66847, concerning Gaming on Trust Lands Acquired After October 17, 1988. The document published on December 27 incorrectly stated in the EFFECTIVE DATE section of the preamble that the deadline for receipt of comments was February 25, 2002. In addition, the caption EFFECTIVE DATE should have read DATES. Accordingly, on page 66847, in the third column, the EFFECTIVE DATE section is corrected to read “DATES: Comments must be received on or before March 27, 2002.”.

Dated: January 8, 2002.
Neal A. McCaleb,
Assistant Secretary—Indian Affairs.

[FR Doc. 02-1284 Filed 1-25-02; 8:45 am]

BILLING CODE 4310-4N-M